DEPARTMENT OF DEFENSE

Office of the Secretary

[Docket ID: DOD-2019-OS-0035]

Proposed Collection; Comment Request

AGENCY: Office of the Under Secretary of Defense for Personnel and Readiness, DoD.

ACTION: Information collection notice.

SUMMARY: In compliance with the Paperwork Reduction Act of 1995, the Office of the Under Secretary of Defense for Personnel and Readiness announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by May 28, 2019.

ADDRESSES: You may submit comments, identified by docket number and title, by any of the following methods:

Federal eRulemaking Portal: http://www.regulations.gov. Follow the instructions for submitting comments.

Mail: Department of Defense, Office of the Chief Management Officer, Directorate for Oversight and Compliance, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Defense Manpower Data Center, Synchronized Predeployment and Operational Tracker Enterprise Suite (SPOT-ES) Program Management Office, ATTN: Samuel Gregson, 4800 Mark Center Drive, Suite 04E25, Alexandria, VA 22350, or call SPOT-ES PMO at 571-372-1139.

SUPPLEMENTARY INFORMATION: Title; Associated Form; and OMB Number: Synchronized Predeployment and Operational Tracker Enterprise Suite (SPOT-ES), OMB Control Number 0704-0460.

Needs and Uses: The information collection requirement is necessary to comply with section 861 of Public Law 110-181 and DoD Instruction 3020.41, “Operational Contract Support” and other appropriate policy, Memoranda of Understanding, and regulations. The Department of Defense, the Department of State (DoS), and the United States Agency for International Development (USAID) require that Government contract companies enter their employee's data into the Synchronized Predeployment and Operational Tracker (SPOT) System before contractors are deployed outside of the United States. Any persons who choose not to have data collected will not be entitled to employment opportunities which require this data to be collected.

Affected Public: Business or other for profit.

Annual Burden Hours: 37,114.

Number of Respondents: 964.

Responses per Respondent: 77.

Annual Responses: 74,228.

Average Burden per Response: 30 minutes.

Frequency: On occasion.

Data collection on contractors is a condition of DoD contracts when DFARS 252.225-7040, Contractor Personnel Authorized to Accompany

U.S. Armed Forces Deployed Outside the United States, is incorporated. This clause applies when contractors are authorized to accompany U.S. Armed Forces deployed outside of the United States in contingency or peacekeeping operations or other military operations/exercises when designated by the Combatant Commander.

SPOT is the authorized system for contractor accountability and the only system that provides the Letter of Authorization (LOA) which is required to process through a deployment center to, from, or within the designated operational area. The LOA is also required for access to Authorized Government Services (AGS) which are assigned on the LOA for each individual contractor IAW their contract by the responsible Contracting Officer. If the data is not collected to generate the LOA, contractors would not be able to obtain AGS in their deployed locations, including access to dining facilities—limiting their ability to obtain critical life support.

Dated: March 22, 2019.
Aaron T. Siegel,
Alternate OSD Federal Register, Liaison Officer, Department of Defense.

[FR Doc. 2019-05845 Filed 3-26-19; 8:45 am]

BILLING CODE 5001-06-P